GENERAL SERVICES ADMINISTRATION

41 CFR Part 302-7

[FTR Amendment 2013-03; FTR Case 2013-301; Docket No. 2013-0011, Sequence No. 1]

RIN 3090-AJ40

Federal Travel Regulation (FTR); Relocation Allowances; Commuted Rate

AGENCY: Office of Governmentwide Policy (OGP), U.S. General Services Administration (GSA).

ACTION: Final rule.

SUMMARY: The GSA, OGP, is providing a workable commuted rate to be used by agencies in determining a benchmark for payment on the transportation of household goods and temporary storage under a “do it yourself” move cost scenario. This final rule will meet the requirements set forth in the U.S. Code for Relocation Expenses.

DATES: Effective: This final rule is effective December 12, 2013.

FOR FURTHER INFORMATION CONTACT: Contact the U.S. General Services Administration, Regulatory Secretariat Division (MVCB), 1800 F Street NW., 2nd Floor Washington, DC 20405-0001, 202-501-4755, for information pertaining to status or publication schedules. For clarification of content, contact Mr. Ed Davis, Office of Governmentwide Policy (MA), at 202-208-7639 or email at ed.davis@gsa.gov. Please cite FTR Amendment 2013-03, FTR case 2013-301.

SUPPLEMENTARY INFORMATION:

A. Background

5 U.S.C. 5724(c) requires that GSA maintain a commuted rate incorporating all aspects of household goods shipping that is based on a per 100 pound rate fixed by zones. The GSA OGP is issuing a new commuted rate chart to meet the requirements of this law.

The U.S. Department of Transportation's Surface Transportation Board (STB) ruled that the American Moving and Storage Association (AMSA) could no longer provide a standard tariff for HouseHold Goods (HHG) shipments. The effective date for this ruling was January 1, 2008. Prior to January 1, 2008, the AMSA 415-G tariff was treated by Federal agencies as the commuted rate; that is, when a Federal employee moved his/her own household goods or hired his/her own mover, the AMSA tariff was used by the agency as a benchmark, to help determine whether the agency should reimburse the full amount the employee vouchered for. Agencies are still required to do this in accordance with the regulations at Federal Management Regulation (FMR) section 102-117.225 and Federal Travel Regulation (FTR) section 302-7, subpart B. Both of these regulations were made obsolete by the STB ruling.

Since both the FMR and FTR address the commuted rate, GSA is concurrently publishing an FMR Bulletin and an FTR Bulletin on this issue.

B. Changes to the Current FTR

This final rule—

• Revises section 302-7.101 to direct the reader to the GSA Web site to calculate commuted rate shipments.

• Revises section 302-7.102 to direct the reader to use the tariffs filed with GSA travel management centers.

• Adds new section 302-7.110 to direct the reader to the GSA Web site to calculate commuted rate shipments.

C. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

D. Regulatory Flexibility Act

This final rule is not required to be published in the Federal Register for notice and comment as per the exemption specified in 5 U.S.C. 553(a)(2); therefore, the Regulatory Flexibility Act, 5 U.S.C. 601, et seq., does not apply. However, this final rule is being published to provide transparency in the promulgation of Federal policies.

E. Paperwork Reduction Act

The Paperwork Reduction Act does not apply because the changes to the Federal Travel Regulation do not impose recordkeeping or information collection requirements, or the collection of information from offerors, contractors, or members of the public that require the approval of the Office of Management and Budget under 44 U.S.C. 3501, et seq.

F. Small Business Regulatory Enforcement Fairness Act

This final rule is also exempt from congressional review prescribed under 5 U.S.C. 801 since it relates solely to agency management and personnel.

List of Subjects in 41 CFR Part 302-7

Government employees, Transportation and storage of property, Travel and transportation expenses.

Dated: November 25, 2013.
Dan Tangherlini,
Administrator of General Services.

For the reasons set forth in the preamble, under 5 U.S.C. 5738, 5 U.S.C. 5724(c) and 20 U.S.C. 905(a), GSA is amending 41 CFR part 302-7 as follows:

PART 302-7—TRANSPORTATION AND TEMPORARY STORAGE OF HOUSEHOLD GOODS, PROFESSIONAL BOOKS, PAPERS, AND EQUIPMENT, (PBP&E) AND BAGGAGE ALLOWANCE

1. The authority citation for 41 CFR part 302-7 continues to read as follows:

Authority: 5 U.S.C. 5738; 20 U.S.C. 905(a); E.O. 11609, as amended, 3 CFR, 1971-1973 Comp., p. 586.

2. Revise the part heading to read as set forth above.

§ 302-7.100 [Amended]

3. Amend § 302-7.100 in the fourth sentence, by removing the words “Household Goods Carriers' Mileage Guide (issued by the Household Goods Carriers' Bureau, 1611 Duke Street, Alexandria, VA 22314-3482)”.

4. Revise § 302-7.101 to read as follows:

§ 302-7.101 Where can the commuted rate schedules for the transportation of HHG and temporary storage be found?

The commuted rate table is published at www.gsa.gov/relocationpolicy.

§ 302-7.102 [Amended]

5. Amend § 302-7.102 by removing “the Household Goods Carriers' Standard Mileage Guide, or a standard road atlas issued by The Household Goods Carrier's Bureau,” and adding “you may use the tariffs filed with GSA travel management centers” in its place.

6. Revise § 302-7.110 to read as follows:

§ 302-7.110 Is there a reimbursement limit?

Yes, reimbursement must not exceed the limits in the commuted rate table published by GSA and found at www.gsa.gov/relocationpolicy.

[FR Doc. 2013-29209 Filed 12-11-13; 8:45 am]

BILLING CODE 6820-14-P